DEPARTMENT OF HEALTH AND HUMAN SERVICES

Centers for Disease Control and Prevention

[30Day-07-0457]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Aggregate Reports for Tuberculosis Program Evaluation (OMB No. 0920-0457)—Extension—National Center for HIV, STD, and TB Prevention (NCHSTP), Centers for Disease Control and Prevention (CDC).

Background and Brief Description

CDC, National Center for HIV, STD, and TB Prevention, Division of Tuberculosis Elimination (DTBE) proposes to continue the Aggregate Reports for Tuberculosis Program Evaluation, previously approved under OMB No. 0920-0457. This request is for a 3-year clearance. There are no revisions to the report forms, data definitions, or reporting instructions. DTBE is the lead agency for tuberculosis elimination in the United States.

To ensure the elimination of tuberculosis in the United States, CDC monitors indicators for key program activities, such as finding tuberculosis infections in recent contacts of cases and in other persons likely to be infected and providing therapy for latent tuberculosis infection. In 2000, CDC implemented two program evaluation reports for annual submission: Aggregate report of follow-up for contacts of tuberculosis, and Aggregate report of screening and preventive therapy for tuberculosis infection (OMB No. 0920-0457). The respondents for these reports are the 68 State and local tuberculosis control programs receiving Federal cooperative agreement funding through DTBE. These reports emphasize treatment outcomes, high-priority target populations vulnerable to tuberculosis, and programmed electronic report entry and submission through the Tuberculosis Information Management System (TIMS). No other federal agency collects this type of national tuberculosis data, and the Aggregate report of follow-up for contacts of tuberculosis, and Aggregate report of screening and preventive therapy for tuberculosis infection are the only data source about latent tuberculosis infection for monitoring national progress toward tuberculosis elimination with these activities. CDC provides ongoing assistance in the preparation and utilization of these reports at the local and State levels of public health jurisdiction. CDC also provides respondents with technical support for the TIMS software (Electronic—100%, Use of Electronic Signatures—No). The annual burden to respondents is estimated to be 226 hours. There is no cost to respondents other than their time.

Estimated Annualized Burden Hours
Report name | Respondents (state and local tuberculosis control programs) | Response format | Number response per respondent | Hrs per response
Follow-up and Treatment of Contacts to Tuberculosis Cases | 68 data clerks | 50 Electronic | 1 | 30/60
|  | 18 Manual | 1 | 3
| 68 program managers | 50 Electronic | 1 | 30/60
|  | 18 Manual | 1 | 30/60
Targeted Testing and Treatment for Latent Tuberculosis Infection | 68 data clerks | 50 Electronic | 1 | 30/60
|  | 18 Manual | 1 | 3
| 68 program managers | 50 Electronic | 1 | 30/60
|  | 18 Manual | 1 | 30/60

Dated: February 5, 2007.
Joan F. Karr,
Acting Reports Clearance Officer, Centers for Disease Control and Prevention.

[FR Doc. E7-2176 Filed 2-8-07; 8:45 am]

BILLING CODE 4163-18-P